ENVIRONMENTAL PROTECTION AGENCY

[ER-FRL-6251-2]

Environmental Impact Statements; Notice of Availability

Responsible Agency: Office of Federal Activities, General Information (202) 564-7176 OR www.epa.gov/oeca/ofa. Weekly receipt of Environmental Impact Statements Filed February 07, 2000 through February 11, 2000 Pursuant to 40 CFR 1506.9.

EIS No. 200034, Draft EIS, FRA, Use of Locomotive Horns at Highway-Rail Grade Crossing, Proposal Rule, Nationwide, Due: May 26, 2000, Contact: Mark H. Tessler (202) 493-6038.

EIS No. 200035, Draft EIS, AFS, MT, Knox-Brooks Timber Sales and Road Rehabilitation, Implementation, Lola National Forest, Super Ranger District, Mineral County, MT, Due: April 03, 2000, Contact: Bruce Erickson (406) 822-3927.

EIS No. 200036, Final EIS, AFS, MT, Wayup Mine/Fourth of July Road Access, Right-of-Way Grant, Kootenai National Forest, Libby Ranger District, Lincoln County, MT, Due: March 20, 2000, Contact: Tim Charnon (406) 293-7773.

EIS No. 200037, Draft EIS, FHW, TX, Tyler Loop 49 West, Construction from the TX-155 Highway to I-20 Highway, Funding, NPDES and COE Section 404 Permits, Smith County, TX, Due: April 03, 2000, Contact: Walter C. Waidelich, Jr. (512) 916-5988.

EIS No. 200038, Final EIS, FHW, CA, Marin US-101 High Occupancy Vehicle (HOV) Gap Closure Project, Construction from US 101 I-580 on US-101 from Lucky Drive to North San Pedro Road and I-580 from Irene Street to US-101, Funding, COE Section 404 and Bridge Permits, Marin County, CA, Due: March 20, 2000, Contact: Robert F. Tally (916) 498-5020.

EIS No. 200039, Final EIS, FHW, CA, I-215 Improvements, Orange Show Road to CA-30, Funding, City of San Bernardino, San Bernardino County, CA, Due: March 20, 2000, Contact: C. Glenn Clinton (916) 498-5037.

EIS No. 200040, DRAFT EIS, AFS, OR, Mt. Ashland Ski Area Expansion, Implementation, Ashland Ranger District, Rogue River National Forest and Scott River Ranger District, Klamath National Forest, Jackson County, OR, Due: April 03, 2000, Contact: Linda Duffy (541) 482-3333.

EIS No. 200041, Final Supplement, NAS, Programmatic EIS—Sounding Rocket Program (SRP), Updated Information concerning Programmatic Changes since the 1973 FEIS, Site-Specific to Wallops Flight Facility (WFF), Wallops Island, VA; Poker Flat Research Range (PFRR), Fairbanks, AK and White Sands Missile Range (WSMR), White Sands, NM and on a Global Scale, Due: March 20, 2000, Contact: William B. Johnson (757) 824-1099.

EIS No. 200042, Draft EIS, USN, CA, El Toro Marine Corps Air Station Disposal and Reuse, Implementation, Local Redevelopment Authority (LRA), Orange County, CA, Due: March 20, 2000, Contact: Jeffery S. Lewis (916) 498-5035.

EIS No. 200043, Final EIS, FHW, CA, CA-125 South Route Location, Adoption and Construction, between CA-905 on Otay Mesa to CA-54 in Spring Valley, Funding and COE Section 404 Permit, San Diego County, CA, Due: March 20, 2000, Contact: Jeffery S. Lewis (916) 498-5035.

EIS No. 200044, Draft EIS, FHW, WI, US-14/61 Westby—Virogua Bypass Corridor Study, Transportation Improvements, Funding and COE Section 404 Permit, Cities of Virogua and Westby, Vernon County, WI, Due: April 10, 2000, Contact: Eugene Hoelker (608) 829-7512.

Amended Notices

EIS No. 200004, Draft Supplement, FHW, AR, TX, US 71 Highway Improvement Project, Updated Information, between Texarkana, (US71) Arkansas and DeQueen, Texarkana Northern Loop Funding, Right-of-Way Approval and COE Section 404 Permit, Little River, Miller and Sevier Counties, AR and Bowie County, TX, Due: March 06, 2000, Contact: Elizabeth Romero (501) 324-5309. Published FR-01-21-00 Correction to Comment date from 02-28-2000 to 03-06-2000.

EIS No. 200009, Final EIS, BIA, CA, Programmatic EIS—Cabazon Resource Recovery Park Section 6 General Plan, Implementation, Approval of Master Lease and NPDES Permit, Mecca, CA, Due: February 21, 2000, Contact: William Allan (916) 978-6043. Published FR-1-21-00—Correction to Comment Period from February 14, 2000 to February 21, 2000.

EIS No. 990282, Draft EIS, DOE, NV, Geologic Repository for the Disposal of Spent Nuclear Fuel and High-Level Radioactive Waste, Construction, Operation, Monitoring and Eventually Closing a geologic repository at Yucca Mountain, Nye County, NV , Due: February 28, 2000, Contact: Wendy R. Dixon (702) 794-5564. Published FR on August 13, 99 CEQ Comment Date has been extended from February 9, 2000 to February 28, 2000.

EIS No. 990454, Draft EIS, USN, FL, MS, VA, USS Winston S. Churchill (DDG 81), Conducting a Shock Trial, Offshore of Naval Stations, Mayport, FL; Norfolk, VA and/or Pascagoula, MS, Due: January 24, 2000, Contact: Ms. Lyn Carroll (703) 413-4099. Revision of FR notice published on December 10, 1999: CEQ Comment Date has been extended from January 24, 2000 to March 31, 2000.

EIS No. 990488, Draft EIS, AFS, NC, Croatan National Forest Revised Land and Resource Management Plan (1986), Implementation, Carteret Craven and Jones Counties, NC, Due: April 10, 2000, Contact: John Ramey (828) 257-4268. Published FR-12-30-99) Correction to Comment Period from February 14, 2000 to April 10, 2000

B. Katherine Biggs,
Associate Director, Office of Federal Activities.

[FR Doc. 00-3935 Filed 2-17-00; 8:45 am]

BILLING CODE 6560-50-U